DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning customer satisfaction with Building Science & Technology publications that contain guidance on construction practices in reducing damage from natural and man-made hazards.

SUPPLEMENTARY INFORMATION: Executive Order 12862 requires Federal agencies to survey their customers in order to determine the kind and quality of services they want and their level of satisfaction with existing services. FEMA wishes to obtain feedback from users of Buildings Science and Technology (BS&T) publications, particularly from those who have ordered publications in the past three years. The publications offer state-of-the-art construction practices for building safety and to reduce the risk of future damage from natural and man-made hazards. The feedback project is an opportunity for customers to evaluate publications as a whole, with a special focus on construction in flood hazard areas, including coastal area. With customer feedback information, BS&T can revise and otherwise improve the presentation of technical information to better suit the needs and desires of customers, thereby improving building safety and successfully reducing future building losses from natural and man-made hazards.

Collection of Information

Title: Building Science & Technology (BS&T) Publications Customer Satisfaction Research, FEMA.

Type of Information: New.

Abstract: (1) 2004 On-Line Survey: Since BS&T's mission is to improve the safety of the built environment, the feedback project evaluates customer satisfaction with building science publications, as well as customer reports on how the publications are used, their impact on building safety, and how they could be improved. (2) 2004 Focus Groups (4): With completion of the on-line survey, subject matter experts who use the publications will be recruited to participate in regional focus groups to solicit feedback on the format and content of BS&T publications. (3) 2005-6 Ongoing Customer Feedback: BS&T will use the findings of the benchmark survey not only to make needed changes immediately but to establish a base-line of information for judging whether customer satisfaction is changing over time. With each publication ordered, a self-mailer postcard will be included that encourages the customer to provide feedback on the usefulness of specific publications and any comments.

Affected Public: The people and organizations affected by this survey include: (a) Individuals or households, (b) business or other for-profit, (c) not-for-profit institutions (d) Federal government, and (e) State, local or tribal government.

Estimated Total Annual Burden Hours: 496 hours.

FEMA forms | Number of respondents (A) | Frequency of response (B) | Hours per response (C) | Annual burden hours (A × B × C)
2004 On-Line Survey | 1,000 | 1 | 0.17 | 200
Focus Groups (4) | 48 | 1 | 6.0 | 288
2005-2006 On-Going Customer Feedback | 390 | 1 | 0.02 | 8
Total | 1438 | 1 | 0.02 | 496

Estimated Cost: $10,396.00.

Program | Burden hours | Median hourly rate $ | Average cost/respondent hour $ | Annualized cost all respondents
On-Line Survey/Pre-Survey | 200 | 20.96 | 3.56 | $4,192.00
Focus Groups | 288 | 20.96 | 3.56 | 6,036.00
On-Going Customer Feedback | 8 | 20.96 | 3.56 | 168.00
Grand total | 496 |  |  | 10,396.00

Comments: Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street SW., Room 316, Washington, DC 20472.

FOR FURTHER INFORMATION CONTACT: Contact Gary L. Sepulvado, Sr., Policy Analyst, BS&T, FEMA/DHS, 202-646-3355. You may contact Ms. Anderson for copies of the proposed collection of information at facsimile number (202) 646-3347 or e-mail address: Information.Collections@fema.gov.

Dated: November 18, 2003.
Edward W. Kernan,
Division Director, Information Resources Management Division, Information Technology Services Directorate.

[FR Doc. 03-29353 Filed 11-24-03; 8:45 am]

BILLING CODE 9110-13-P